DEPARTMENT OF VETERANS AFFAIRS

Funding Availability: Homeless Providers Grant and Per Diem Program

AGENCY: VA Homeless Providers Grant and Per Diem (GPD) Program, Veterans Health Administration, Department of Veterans Affairs (VA).

ACTION: Notice of funding availability (NOFA).

SUMMARY: VA is announcing the availability of funds to eligible entities to provide per diem payments for the Transition in Place (TIP) housing model to facilitate housing stabilization for Veterans who are homeless or at risk of becoming homeless under VA's Homeless Providers GPD Program. VA expects to award funding to pay per diem for approximately 450 beds with this NOFA.

DATES: Applications for grants under the GPD Program must be received by the GPD National Program Office by 4:00 p.m. Eastern Time on Wednesday, April 22, 2020. In the interest of fairness to all competing applicants, this deadline is firm as to date and hour. VA will treat any application that is received after the deadline as ineligible for consideration. Applicants should take this practice into account and submit their materials early to avoid the risk of unanticipated delays, computer service outages, or other submission-related problems that might result in ineligibility.

For a Copy of the Application Package: The required documentation for applications is outlined under the Application Documentation Required sections of this NOFA. Questions should be referred to the GPD National Program Office by email at: GPDgrants@va.gov. For detailed GPD Program information and requirements, see part 61 of title 38, Code of Federal Regulations (CFR) or 38 CFR part 61.

Submission of Application Package: Applicants must submit applications electronically by following instructions found at: www.va.gov/homeless/gpd.asp. Applications may not be mailed, emailed, or sent by fax. Applications must be received by the GPD National Program Office by 4:00 p.m. Eastern Time on the application deadline date. Applications must be submitted as a complete package. Materials arriving separately will not be included in the application package for consideration and may result in the application being rejected or not funded.

Technical Assistance: Information regarding how to obtain technical assistance with the preparation of a grant application is available on the GPD Program website at: www.va.gov/homeless/gpd.asp.

FOR FURTHER INFORMATION CONTACT: Jeffery Quarles, Director, GPD Program, (673/GPD), VA National Grant and Per Diem Program Office, 10770 N 46th Street, Suite C-200, Tampa, FL 33617, (813) 979-3570. (This is not a toll-free number); GPDGrants@va.gov.

SUPPLEMENTARY INFORMATION: Funding Opportunity Title: GPD Per Diem Only Grant Program TIP.

Announcement Type: Initial.

Funding Opportunity Number: VA-GPD-TIP-FY2020.

Catalog of Federal Domestic Assistance Number: 64.024, VA Homeless Providers Grant and Per Diem Program.

I. Funding Opportunity Description

A. Purpose: This NOFA announces the availability of per diem funding to 501(c)(3) and 501(c)(19) non-profit organizations, state and local governments, and recognized Indian Tribal governments. Religious or faith-based organizations are eligible, on the same basis as any other organization, to apply to participate in this VA program. Faith-based organizations should refer to 38 CFR 61.64(b) through 61.64(g) for grant compliance requirements. Each application must include a minimum of 5 TIP beds and up to a maximum of 20 TIP beds, per VA medical center (VAMC) catchment area, per each applicant's Employer Identification Number (EIN). Each applicant may request a maximum amount of per diem not to exceed $1.6 million total costs for the entire 3-year grant period. Applicants may request no more than $80,000 total costs per bed over the entire 3-year grant period based on the average number of beds to be provided as stated in the grant application. If more than one application per VAMC catchment area per applicant's EIN is received by the due date and time, VA will consider only one application. VA reserves the right to select which application to consider based on the submission dates and times or based on other factors.

Note: Applicants do not have to include coverage for the entire VAMC catchment area in the application. The coverage area, however, must not exceed the VAMC catchment area identified in the application. If an applicant does not know their VAMC catchment area, they can contact the local medical facility provided at the following address: www.va.gov/directory/guide/allstate.asp and ask to speak with the Homeless Program. Applicants are encouraged to tailor their proposed coverage area to factors such as their own ability and the particular needs of the community.

Applicants agree to meet the applicable requirements of 38 CFR part 61 as a part of the effort to end homelessness among our Nation's Veterans.

B. Definitions: Title 38 CFR part 61 contains definitions of terms used in the GPD Program that are applicable to this NOFA.

C. Eligibility Information: To be eligible, an applicant must be a 501(c)(3) or 501(c)(19) non-profit organization, state or local government, or recognized Indian Tribal government that meets the requirements in 38 CFR 61.1. Religious or faith-based organizations are eligible, on the same basis as any other organization, to participate in this VA program. Faith-based organizations should refer to 38 CFR 61.64(b) through 61.64(g) for grant compliance requirements.

D. Cost Sharing or Matching: None.

E. Authority: Funding applied for under this NOFA is authorized by 38 U.S.C. 2011, 2012.

F. TIP Housing Model Description:

Note: The model description below has Required Minimum Performance Metrics/Targets that are set for the award period (October 1, 2020-September 30, 2023). VA may, at its discretion, update these targets at any point during the award period. If any new targets come into effect, VA will notify grantees in writing.

Transition in Place

Targeted Population—Homeless Veterans who choose a supportive transitional housing environment providing services prior to entering permanent housing.

Model Overview—Provides transitional housing and robust services that facilitate individual stabilization, increased income, and movement of the Veteran to permanent housing in the residence as rapidly as clinically appropriate.

Characteristics & Standards—The TIP housing model offers Veteran residents housing in which supportive services transition out of the residence over time, rather than the resident. This leaves the resident in place at the residence and not forced to find other housing while stabilizing. It is expected that Veterans will transition in place in approximately 6 to 12 months. Applicants should be aware that for an extension beyond 12 months, prior written approval from the GPD Liaison would be required, and extensions would be considered in increments of up to 90 days at a time and generally not to exceed a combined total of up to 24 months per Veteran. This model does not support discharge planning that would have the Veteran transition to the Department of Housing and Urban Development-VA Supportive Housing (HUD-VASH) as the HUD-VASH Program targets a Veteran population in need of specialized case management. Similarly, this grant does not support discharge planning to Supportive Services for Veteran Families (SSVF) Rapid Rehousing.

Scope of services should incorporate tactics to increase the Veteran's income through employment and/or benefits and to secure the permanent housing in the Veteran's name. Services provided and strategies used by the applicant will vary based on the individualized needs of the Veteran and resources available in the community. Housing case management should be flexible in intensity, support client choice, use a strengths-based approach, and focus on housing retention and helping the household to develop, enhance, or re-engage a network of support that will continue with them after they finish TIP. Case managers are expected to work on tenancy support such as how to resolve conflicts, how to understand a lease, options for working through crises and other skills that will assist them in retaining housing when they are no longer in TIP. Applicants specify the staffing levels and range of services to be provided, which are expected to be multidisciplinary and robust.

Applicants identify or convert existing suitable apartment-style housing where homeless Veteran participants would receive intensive, time-limited, supportive services optimally for a period of 6-12 months, but sometimes longer, as described above with prior written approval from the GPD Liaison for extensions in increments of up to 90 days at a time and generally not to exceed a combined total of up to 24 months per Veteran. Upon completion, the Veteran must be able to “transition in place” by assuming the lease or other long-term agreement which enables the unit in which he or she resides to be considered the Veteran's permanent housing. Grantees are expected to replace units as they are converted to permanent housing to maintain the average number of bed days as stated in the application during the entire grant period. Once the Veteran assumes the lease or other long-term agreement, VA will no longer provide funding for the unit under this NOFA. For example, each time a Veteran assumes the lease or other long-term agreement for the apartment, the grantee must identify a new unit in which to place another Veteran. By program design, transition to permanent housing should occur as rapidly as possible, and grantees should continually be acquiring and coordinating with VA on the inspection of new units to maintain a steady number of Veterans served.

Applicants applying under this NOFA must own or lease apartments intended as permanent housing for an individual or single family. Apartments must meet the inspection standards outlined at title 38 CFR 61.80 and have the following characteristics:

1. Private access without unauthorized passage through another dwelling unit or private property;

2. Sanitary facilities within the unit;

3. Basic furnishings and living supplies (including, at minimum, a bed, chairs, table, and cookware); and

4. Suitable space and equipment within the unit to store, prepare, and serve food in a sanitary manner (including, at a minimum, a refrigerator, freezer, sink, and stove). Note: Microwave ovens, hot plates, or similar items are not suitable substitutes for an operational stove.

Required Minimum Performance Metrics/Targets—VA has established performance metrics/targets for all successful applicants. Discharge to permanent housing is 75 percent. Employment of individuals at discharge is 55 percent. Negative exits are less than 20 percent. Negative exits are defined as those exits from a GPD program for a violation of program rules, failure to comply with program requirements, or leaving the program without consulting staff. VA may, at its discretion, update these targets at any point during the award period. If any new targets come into effect, VA will notify grantees in writing.

Participant Agreement Information

Lease Guarantors—A Lease Guarantor is a third party (in this case, the grantee) who guarantees to pay the lease costs if the lessee (in this case, the Veteran) defaults. This is not allowed under this program.

Sublease—The sublease is a lease by a lessee (in this case, the grantee) to a third party (in this case, the Veteran) conveying the leased property for a shorter term than that of the lessee, who retains a reversion in the lease. For the sake of clarity, in a sublease TIP housing scenario, the landlord is the lessor, the grantee is the lessee, and the Veteran is the sublessee.

GPD TIP grantees may use subleases during the transitional housing phase if the sublease has been approved by the GPD National Program Office, and the sublease meets the following conditions:

1. Period of sublease must be less than the entire period of the grantee's lease with the landlord.

2. Grantee lease renewal must be taken into consideration when stating the period of the sublease.

3. Sublease must be explicit that the grantee is the lessee, not the Veteran.

4. Sublease must revert back to the grantee lessee without sanctions to the Veteran should the Veteran leave prior to program completion and lease assumption.

5. Sublease may not contain requirements contrary to GPD regulations.

6. Security deposits may not be charged to Veterans. However, grantee lessees may take other available and appropriate legal steps in situations of property destruction.

Lease Assumption—When a third party (in this case the Veteran) assumes a lease, the original lessee does not retain any interest in the lease.

Low Income Housing Tax Credits—Grantees that use tax credit programs may request that Veterans fill out a tax credit application, as there is no prohibition in GPD regulations. The issues that could arise are operational and specific to GPD TIP. The following are two examples.

Example 1. Under the GPD TIP for which the grantee is funded, the Veteran may not “assume” a lease until the transitional housing phase is complete. A sublease may be used as long as it meets the requirements above. If the grantee is not leasing from another landlord, it will make a difference. As the relationship changes, the grantee is the lessor and the Veteran becomes the lessee. This is not a sublease. In this case some other form of program agreement may have to be used that meets the elements of items 4, 5, and 6 above and meets tax credit requirements.

Example 2. Income under tax credits is calculated differently than in GPD. The grantee must follow GPD regulations during the transitional phase, and only the Veteran's income may be counted as defined in 38 CFR 61.82. When the Veteran completes the program and then “assumes” the lease, the calculation of income will revert to the tax credit requirements. The Veteran should be apprised of this prior to program entry so appropriate planning can be put into place.

II. Award Information

A. Allocation of funds: Funding awarded under this NOFA will be for a period of 3 years, beginning on October 1, 2020, and ending on September 30, 2023, dependent upon factors such as funding availability, the recipient meeting the performance goals established in the grant agreement, utilization rates of beds or services, statutory and regulatory requirements, and the results of the VA inspection. Continuation of funding is not guaranteed.

B. Funding Restrictions: No part of an award under this NOFA may be used to facilitate capital improvements or to purchase vans or real property. Questions should be directed to VA's GPD National Program Office at the email address listed in the contact section of the NOFA. Applicants may not receive funding to replace funds provided by any Federal, state, or local government agency or program to assist homeless persons.

C. Funding Limitations:

1. VA's decisions will be based on factors such as need, geographic dispersion, and availability of funding.

2. Each application must include a minimum of 5 TIP beds and up to a maximum of 20 TIP beds, per VAMC catchment area, per each applicant's EIN.

3. Each applicant may request a maximum amount of per diem not to exceed $1.6 million total costs for the entire 3-year grant period. Applicants may request no more than $80,000 total costs per bed over the entire 3-year grant period based on the average number of beds to be provided as stated in the grant application.

III. Application and Submission Information

A. To Obtain a Grant Application: Applicants must submit applications electronically following instructions found at: www.va.gov/homeless/gpd.asp. The required documentation for an application submission is outlined below in the Application Documentation Required, section IV of this NOFA. Standard forms, which must be included as part of a complete application package, may be downloaded directly from VA's GPD Program website at: www.va.gov/homeless/gpd.asp. Questions should be referred to the GPD National Program Office at: GPDGrants@va.gov. For detailed GPD Program information and requirements, see 38 CFR part 61.

B. Content and Form of Application: VA is seeking to focus resources to assist Veterans who are homeless or at risk of becoming homeless. If your agency is unclear as to how to apply, contact the GPD National Program Office for clarification prior to submission of any application to ensure it is submitted in the correct format.

Applicants should ensure that they include all required documents in their electronic application submission, carefully follow the format and provide the information requested and described below. Submission of an incorrect, incomplete, or incorrectly formatted application package will result in the application being rejected.

IV. Application Documentation Required

A. Standard Forms (SF) and budget information:

1. Application for Federal Assistance (SF-424).

2. Indirect cost information: Applicants that have a negotiated indirect cost rate agreement must provide a copy of the agreement as an attachment to the application if they wish to charge indirect costs to the grant. Applicants without a negotiated indirect cost rate agreement may request the de minimis rate for indirect costs if they meet the definitions and requirements of 2 CFR part 200. All other allowable costs will be considered only if they are direct costs.

B. Eligibility: State/local government entities must provide as an attachment to the application a copy of any comments or recommendations by approved state and area-wide clearinghouses pursuant to Executive Order 12372.

C. System for Award Management (SAM): Applicants must provide a current Data Universal Numbering System (DUNS) number, Unique Entity Identifier (UEI) and SAM expiration date.

D. Project Summary:

1. Name and station number of the VAMC whose catchment area includes the transitional housing location(s) requested in this application. If requesting multiple sites, all sites must fall within the same VAMC catchment area. If requesting multiple sites, applicants should make sure each proposed site is strongly justified and well developed. The quality of each site will impact the overall score of the application.

2. Name(s) and number(s) of the Continuum of Care (CoC) where the transitional housing requested in this application will be located. If requesting sites in multiple CoCs, applicants should make sure sites in each CoC are strongly justified and well developed. The quality of sites in each CoC will impact the overall score of the application.

3. Number of beds for which your agency is requesting per diem in this application. Total request to VA for all beds for the entire 3-year period.

4. Location of housing provided under this application. For fixed sites, identify the address, city, state, zip code + four-digit extension, county, other counties served, congressional district, the number of GPD beds at each location, and gender(s) served. For sites whose locations are not available at the time of application, provide the names of all counties in which services will be provided.

5. Per location, a description of how the facility's participant living space will be configured. Include the square footage of the room or unit, the number of beds in that square footage and other descriptive information (e.g., Single Room Occupancy, 100 square feet, no bunk beds; Apartment(s), 1,500 square feet, 1, 2, or 3 bedroom(s), no bunk beds). Identify any differences between locations, if applicable.

6. Description of whether your agency currently uses the Homeless Management Information System (HMIS) and if so, describe your participation with HMIS. HMIS is a locally-administered Web-based data system used to record and analyze both program and client information at the local CoC level. It is used by other Federal partners, including VA, to measure project performance and participate in benchmarking of the national effort to end homelessness. Currently, using HMIS is optional for GPD grantees. However, it can be a useful tool for program monitoring and also for coordination with community partners. Additionally, many communities use HMIS to conduct Coordinated Entry assessments. Applicants should be connected to Coordinated Entry, the Veteran Master List/By Name List, and Case Conferencing to support referrals to the program.

E. Applicant Contact Information:

1. Location of the administrative office where correspondence can be sent to the Executive Director/President/Chief Executive Officer (CEO) (no Post Office Boxes). Include complete address, city, state, zip code + four-digit extension, county, and congressional district.

2. Organization Primary Contact: Include the name, title, phone, and email address. Note: GPD views the organization primary contact as assigned to the organization, not a specific grant award, and should be someone who normally signs grant agreements or makes executive decisions for the organization. This is most often the Executive Director, the President, or the CEO. Organizations with multiple awards can only have one Organization Contact.

3. Grant Contact #1: Include the name, title, phone, and email address. Note: This contact is specific to this grant application and may be a Program Manager, Director, Case Manager, Grant Administrator, or other position overseeing the GPD grant project.

4. Provide as an attachment to the application a complete listing of your agency's officers of the Board of Directors and each person's address, phone, and email address.

F. Project Abstract: In approximately 500 words, provide a brief abstract of the proposed project. As applicable, include a discussion of multiple sites, multiple CoCs, and/or other information relevant to an understanding of the overall project.

G. Detailed Application Design: This is the portion of the application that describes your proposed program. VA reviewers will focus on how the detailed application design addresses the areas of outreach, project plan, ability, need, and coordination including how supportive services will be coordinated. VA expects applicants awarded under this NOFA will meet the VA performance metrics. With those metrics in mind, and in response to the following sections, please include strategies to meet or exceed VA's national metric targets. Applicants are encouraged to discuss specifics about their case management intervention approaches within each of the questions below, as applicable. Applications that demonstrate intensive approaches to case management that are strengths-based, evidence-based, multidisciplinary, multiphasic, structured, flexible in intensity, and integrated with personal networks and with the VA or mainstream community that will be most responsive to this NOFA. Examples include critical time intervention (CTI), motivational interviewing, progressive engagement/progressive assistance, and other approaches or a combination of approaches. The requirements in this section are consistent with 38 CFR part 61.

(a) Outreach (see 38 CFR 61.13(c)): This is the portion of the application where applicants will discuss how the outreach plan is tailored to the project and how services will be provided to Veterans living in places not ordinarily meant for human habitation (e.g., streets, parks, abandoned buildings, automobiles, emergency shelters). Applications will be scored on responses to the following questions:

1. Outreach—In approximately 250 words, describe your agency's plan to conduct outreach, including frequency of outreach, to your selected Veteran population(s) living in places not ordinarily meant for human habitation (e.g., streets, parks, abandoned buildings, automobiles, emergency shelters).

2. Outreach—In approximately 1,000 words, describe where your organization will target and tailor its outreach efforts to identify appropriate Veterans for this program. Additionally, applicants should discuss their plans for orienting Veterans about the program's process and timeline prior to enrollment.

3. Outreach—In approximately 500 words, describe your agency's involvement in the Coordinated Assessment/Entry efforts of the CoC(s) named in Project Summary question IV.D.2. and how this project would be involved in coordinated entry efforts. Describe how your organization's outreach plan fits into each CoC's plan to end homelessness.

(b) Project Plan (see 38 CFR 61.13(b)): VA wishes to provide the most appropriate housing based on the needs of the individual Veteran. Applications will be scored on responses to the following questions:

1. Project Plan— In approximately 2,000 words, provide a list of the supportive services offered to help participants achieve residential stability, increase skill level and/or income, and become involved in making life decisions that will increase self-determination. This list should include a brief description of the service; the minimum frequency that the service will be offered; and the job title, including minimum credentials of the individual(s) who will provide the service. It is expected that these services be available during flexible hours (e.g., accommodating for participants who are employed or have other obligations) and that case management services, to the extent possible, include regular home visits, when appropriate. Applicants are expected to provide intensive services that are strengths-based, evidence-based, multidisciplinary, multiphasic, structured, flexible in intensity, and integrated with personal networks and with the VA or mainstream community. Applicants who are employing a formal approach to services such as CTI, motivational interviewing, progressive engagement/progressive assistance, and other approaches or a combination of approaches, should include descriptions accordingly.

2. Project Plan—In approximately 500 words, describe the specific process and criteria for deciding which Veterans are appropriate for admission.

3. Project Plan—In approximately 500 words, address whether the project will serve mixed gender populations and/or individuals with children. Provide a listing and explanation of any gender-specific services.

4. Project Plan—In approximately 500 words, describe how the safety, security, and privacy of participants will be ensured.

5. Project Plan—In approximately 500 words, provide your agency's Individual Service Plan (ISP) methodology and the core items to be addressed in the ISP. The goal is to ensure that Veterans have the tools they need to maximize their ability to pay rent, to understand landlord/tenant rights and responsibilities, and to be proactive in addressing issues that may have contributed to a loss of housing in the past. Additionally, applicants should describe their plans for various phases of the program including how to identify when it is appropriate to transition and how progress could be completed within a period of 6-12 months. Applicants should be aware that for an extension beyond 12 months, prior written approval from the GPD Liaison is required. Extensions would be considered in increments of up to 90 days at a time and generally not to exceed a combined total of up to 24 months per Veteran.

6. Project Plan—In approximately 500 words, describe how, when, and by whom participants' progress toward meeting their individual goals will be monitored, evaluated, and documented. Include descriptions of how progress notes, case conferencing, and supervision will be documented. Applicants are expected to provide intensive case management that is strengths-based, evidence-based, multidisciplinary, multiphasic, structured, flexible in intensity, and integrated with personal networks and with the VA or mainstream community. This approach to case management usually would involve a team of clinicians, case managers, and if applicable, social worker(s), nurse(s), or other appropriate personnel with skills in community-based service delivery.

7. Project Plan—In approximately 500 words, describe how you will work with Veterans to help them gain skills to assist in retaining housing after TIP support ends. Describe how you will determine when the Veteran is ready to assume the lease or long-term agreement. Additionally, applicants should describe how exceptional cases will be handled (e.g., cases in which Veterans need more or less than the usual time to complete the program).

8. Project Plan—In approximately 500 words, describe how you will ensure that each Veteran receives individualized services to meet permanent housing goals. Indicate how the program plans to meet VA's metrics/targets and meet the goals of the community within which the grantee is working.

9. Project Plan—In approximately 500 words, describe how necessary follow-up services will be provided. For example, the Project Plan should describe how often they will occur and the duration of the follow up.

10. Project Plan—In approximately 500 words, describe how Veteran participants will have a voice and aid in operating and maintaining the housing (e.g., volunteer time, paid positions, community governance meetings, peer support).

11. Project Plan—In approximately 500 words, if your agency plans to use any subrecipient(s) and/or contractor(s) for operating and/or maintaining the housing, describe the responsibilities of the subrecipient(s) and/or contractor(s).

12. Project Plan—In approximately 500 words, describe program policies regarding a clean and sober environment. Include in the description how participant relapse will be handled and how these policies will affect the admission and discharge criteria.

13. Project Plan—In approximately 500 words, provide and describe the type and implementation of the medication control system that will be used in this project (e.g., Medication Management, Medication Monitoring, individual storage). For reference, applicants may review these requirements at: www.va.gov/homeless/gpd.asp.

14. Project Plan—In approximately 250 words, describe program polices regarding participant agreements, including any leases and subleases, if used.

15. Project Plan—In approximately 250 words, describe program polices regarding extracurricular fees.

16. Project Plan—In approximately 500 words, describe how you will aid Veterans who seek employment and income maximization goals, such as increased income, increased benefits, reduced expenses, or improved financial management skills. Please note that services such as Supplemental Security Income and Social Security Disability Insurance (SSI/SSDI) Outreach, Access, and Recovery (SOAR) and other income maximization strategies may be used by applicants.

17. Project Plan—In approximately 500 words, address how your agency will facilitate the provision of nutritional meals for the Veterans. Be sure to describe how Veterans with little or no income will be assisted.

18. Project Plan—In approximately 250 words, describe how you will facilitate transportation of the Veteran participants to appointments, employment, and supportive services.

(c) Ability (see 38 CFR 61.13(d)): This is the portion of the application where applicants demonstrate their ability to develop, operate, and complete the project with necessary staff and experience regarding the selected population(s). Applications will be scored on responses to the following questions:

1. Ability—Provide as an attachment to the application a table or spreadsheet of the staffing plan for this project (see Example 3). Do not include resumés. Information provided here should be consistent with information provided in project plan question number 6 and with information provided elsewhere in the application.

Example 3:

Job title | Brief (1-2 sentence) description of responsibilities | Educational level | Hours per week allocated to GPD project (40 hours equals full-time) | Amount of annual salary allocated to the GPD project | Amount of salary for the full-time position
Case Manager | Responsible for working with the Veteran to develop and monitor an individual service plan and to adjust the plan, as needed. Coordinates support with other community agencies | BSW | 30 hours | $60,000 | $80,000

2. Ability—In approximately 500 words, describe your agency's previous experience assessing and providing for the housing needs of homeless Veterans.

3. Ability—In approximately 500 words, describe your agency's previous experience assessing and providing supportive services to homeless Veterans. Applicants should describe their previous experience, if any, using and receiving training in intensive case management services to homeless Veterans that are strengths-based, evidence-based, multidisciplinary, multiphasic, structured, flexible in intensity, and integrated with personal networks and with the VA or mainstream community. Applicants with previous experience in formal approaches such as CTI, motivational interviewing, progressive engagement/progressive assistance, and other formal approaches, should include descriptions accordingly.

4. Ability—In approximately 500 words, describe your agency's ability to get the project started within 180 days from the potential award date. Describe the start-up activities, the timing involved, and when the project would be expected to be fully functional.

5. Ability—In approximately 500 words, describe your agency's previous experience in assessing supportive service resources and entitlement benefits.

6. Ability—In approximately 500 words, describe your agency's previous experience with evaluating the progress of both individual participants and overall program effectiveness using quality and performance data to make changes. Describe your agency's experience with meeting past performance goals. Do not include past inspection forms or past VA performance reports with the application.

7. Ability—In approximately 250 words, describe whether your agency is accredited and/or licensed to provide clinical services. If yes, describe your agency's accreditation and/or licensure. If applicable, include specific details, such as training completion dates, training titles, and training providers. Some generally accepted accreditations include: (1) Commission on Accreditation of Rehabilitation Facilities in Community Employment Services or in Rapid Rehousing and Homeless Prevention Program; (2) a 4-year accreditation from the Council on Accreditation's accreditation in Housing Stabilization and Community Living Services standards; and (3) a 3-year accreditation in the Joint Commission's Behavioral Health Care: Housing Support Services Standards; among others.

8. Ability—In approximately 500 words, describe the organization's staff development plan to help staff gain and maintain the knowledge, skills, and abilities to provide culturally competent and relevant related services to people impacted by racial inequity. Include details on how staff will participate in specific training activities.

(d) Need (see 38 CFR 61.13(e)): This is the portion of the application where applicants demonstrate that the proposed project is necessary. Applications will be scored on responses to the following questions:

1. Need—In approximately 500 words, describe how this project is tailored to the particular needs of the CoC(s) and fit with the strategy of the CoC(s) to end homelessness. Cite reliable data from surveys of homeless populations or other reports or data-gathering mechanisms. Additionally, applicants should describe how caseloads will be kept low (typically 20 or less per case manager) while also meeting the community's need. Note: If multiple CoCs are named in the Project Summary question IV.D.2, your response here should discuss each of those CoCs.

2. Need—In approximately 500 words, describe with whom you consulted outside of your agency to determine the need for the proposed project within the CoC(s). Note: If multiple CoCs are named in the Project Summary question IV.D.2, your response here should discuss each of those CoCs.

(e) Coordination (see 38 CFR 61.13(g)): This is the portion of the application where applicants will demonstrate their involvement in the homeless Veteran continuum. Applications will be scored on responses to the following questions:

1. Coordination—In approximately 500 words, describe how your agency is part of an ongoing community-wide planning process to end Veteran homelessness. Note: If multiple CoCs are named in the Project Summary question IV.D.2, your response here should discuss each of those CoCs.

2. Coordination—In approximately 500 words, describe how your process is designed to share information on available resources and reduce duplication among programs that serve homeless Veterans. Note: If multiple CoCs are named in the Project Summary question IV.D.2, your response here should discuss each of those CoCs. Applicants who wish to provide a letter(s) of coordination from the local CoC(s) must attach a letter at the end of the application. Applicants are strongly encouraged to allow as much time as possible, and no less than 30 days, for a CoC to provide a letter of coordination. All application materials must be submitted together in a single package by the due date and time. Any materials arriving separately or late will not be accepted as part of the application.

3. Coordination—In approximately 500 words, describe how your agency has coordinated GPD services with other programs offered in the CoC(s) named in the Project Summary question IV.D.2.

4. Coordination—In approximately 250 words, describe how your agency consulted directly with the VAMC Director (or the appropriate authorized VAMC representative per the local VAMC's practice) regarding coordination of services for project participants. Provide your plan to ensure access to health care, case management, and other care services. Applicants who wish to provide a letter of coordination from the local VAMC must attach a letter at the end of the application. Applicants are strongly encouraged to allow as much time as possible (not less than 30 days) for a VAMC to provide a letter of coordination. All application materials must be submitted together in a single package by the due date and time. Any materials arriving separately or late will not be accepted as part of the application.

5. Coordination—Applicants may attach to their application a letter(s) of coordination from their proposed multidisciplinary case management team partner(s) if applicable. Applicants are encouraged to provide a letter(s) of coordination if proposing a team consisting of partners external to the applicant organization (e.g., personnel services hired or contracted through a third party or personnel services leveraged from other resources outside of grant funds). If including a letter(s) of coordination, applicants are strongly encouraged to allow as much time as possible (not less than 30 days) for a partner to provide a letter of coordination. All application materials must be submitted together in a single package by the due date and time. Any materials arriving separately or late will not be accepted as part of the application.

Note: Applicants should not provide self-report letters of coordination on their own internal operations. For example, if applicants are planning to hire a licensed social worker to coordinate care, they do not need to write a letter of coordination for themselves.

V. Application Review Information

A. Criteria for Grants: Submission of an incorrect, incomplete, or incorrectly formatted application package will result in the application being rejected at threshold. Applications that meet threshold will be scored according to the rating criteria described in 38 CFR 61.32 to score grant applications. Applications will then be ranked based on that score. The highest-ranking applications with a score of 750 or higher will be considered for funding in rank order as funding allows.

B. Review and Selection Process: Review and selection process may be found at 38 CFR 61.13 and 38 CFR 61.32.

C. Tie Score: In the event of a tie score between applications, VA will use the score from the Coordination section to determine the ranking, as required by 38 CFR 61.32(b). If further determinations are needed to break a tie, VA will decide at its discretion how to handle selection decisions (e.g., selecting multiple applications for award, awarding for less than requested).

D. Funding Actions: Funding is not guaranteed. Conditionally-selected applicants will be asked to submit additional information under 38 CFR 61.32. Applicants will be notified of the deadline to submit such information. If an applicant is unable to meet any conditions for the grant award within the specified time, VA may non-select the applicant and may use the funding for another applicant(s). VA may negotiate bed numbers or other arrangements with conditionally-selected applicants and will incorporate any changes into the grant agreement. Prior to awarding a grant agreement, VA reserves the right to adjust up or down (e.g., funding levels, bed numbers, locations) as needed within the intent of the NOFA based on a variety of factors including the quantity and quality of applications, as well as the availability of funding. VA may elect to award additional applications based on the availability of funds and quality of applications. Upon signature of the grant agreement by the Secretary, or designated representative, final selection will be completed, and the grant funds will be obligated for the funding period.

VI. Award Administration Information

A. Award Notice: Although subject to change, the GPD National Program Office expects to announce grant awards in the fourth quarter of Fiscal Year 2020. Awards will be for 3 years. Continuation funding is not guaranteed. VA reserves the right in any year to adjust up or down (e.g., funding levels, bed numbers, locations) as needed within the intent of the NOFA based on a variety of factors including availability of funding and performance. The initial announcement will be made via news release which will be posted on VA's GPD National Program website at: www.va.gov/homeless/gpd.asp. Following the initial announcement, the GPD Office will send notification letters to the grant recipients. Applicants who are not selected will be sent a declination letter.

B. Administrative and National Policy: VA places great emphasis on responsibility and accountability. VA has procedures in place to monitor services provided to homeless Veterans and outcomes associated with the services provided under this GPD program. All awardees that are selected in response to this NOFA must meet the requirements of the current edition of the Life Safety Code of the National Fire Protection Association as it relates to their specific facility. Applicants should note that all facilities must be protected throughout by an approved automatic sprinkler system unless a facility is specifically exempt under the Life Safety Code. Applicants should consider this when submitting their grant applications, as no funds will be made available for capital improvements under this NOFA.

C. Payment: Per diem will be paid in a method that is in accordance with VA and other Federal fiscal requirements. The per diem payment will be at a rate not to exceed 1.5 times the current VA State Home Program per diem rate for domiciliary care as set by the Secretary under 38 United States Code (U.S.C.) section 2012 and 38 U.S.C. 1741(a)(1). The per diem payment calculation may be found at 38 CFR 61.33. Awardees will be subject to requirements of this NOFA, GPD regulations, 2 CFR part 200, and other Federal grant requirements. A full copy of the regulations governing the GPD Program is available at the GPD website at: www.va.gov/homeless/gpd.asp. Awardees will be required to support their request for payments with adequate fiscal documentation as to project income and expenses. Awardees that have a negotiated indirect cost rate agreement must provide GPD with an updated copy annually or when available.

D. Reporting:

1. Upon execution of a grant agreement with VA, grantees will have a liaison appointed from a nearby VAMC to provide oversight and monitor services provided to homeless Veterans in the program.

2. Monitoring will include, at a minimum, a quarterly review of each per diem program's progress toward meeting VA's performance metrics, helping Veterans attain housing stability, adequate income support, and self-sufficiency as identified in the application. Monitoring may also include a review of the agency's income and expenses as they relate to this project to ensure payment is accurate and to ensure compliance with program requirements. The grantee will be expected to demonstrate adherence to the grantee's proposed program concept, as described in the grantee's application. All grantees are subject to audits conducted by VA or its representative.

3. Each funded program will participate in VA's national program monitoring and evaluation as these procedures will be used to determine successful accomplishment of housing, employment, and self-sufficiency outcomes for each per diem-funded program. Note: The model description above has Required Minimum Performance Metrics/Targets that are set for the award period (October 1, 2020-September 30, 2023). VA may, at its discretion, update these targets at any point during the award period. If any new targets come into effect, VA will notify grantees in writing.

4. It is expected that Veterans will transition in place in approximately 6 to 12 months. Grantees should be aware that for an extension beyond 12 months, prior written approval from the GPD Liaison would be required. Extensions would be considered in increments of up to 90 days at a time and generally not to exceed a combined total of up to 24 months per Veteran.

Signing Authority

The Secretary of Veterans Affairs, or designee, approved this document and authorized the undersigned to sign and submit the document to the Office of the Federal Register for publication electronically as an official document of the Department of Veterans Affairs. Pamela Powers, Chief of Staff, Department of Veterans Affairs, approved this document on February 12, 2020, for publication.

Luvenia Potts,
Regulation Development Coordinator, Office of Regulation Policy & Management, Office of the Secretary, Department of Veterans Affairs.

[FR Doc. 2020-03108 Filed 2-14-20; 8:45 am]

BILLING CODE 8320-01-P